DEPARTMENT OF DEFENSE

Office of the Secretary

[Transmittal Nos. 11-38]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives,

Transmittals 11-38 with attached transmittal, policy justification, and Sensitivity of Technology.

Dated: October 20, 2011.
Aaron Siegel,
Alternate OSD Federal Register Liaison Officer, Department of Defense.

BILLING CODE 5001-06-P

BILLING CODE 5001-06-C

Transmittal No. 11-38

Notice of Proposed Issuance of Letter of Offer Pursuant to Section 36(b)(1) of the Arms Export Control Act, as amended

(i) Prospective Purchaser: Oman

(ii) Total Estimated Value:

Major Defense Equipment * | $1.068 billion
Other | $.180 billion
Total | $1.248 billion
* As defined in Section 47(6) of the Arms Export Control Act.

(iii) Description and Quantity or Quantities of Articles or Services under Consideration for Purchase: 18 AVENGER Fire Units, 266 STINGER-Reprogrammable Micro-Processor (RMP) Block 1 Anti-Aircraft missiles, 6 STINGER Block 1 Production Verification Flight Test missiles, 24 Captive Flight Trainers, 18 AN/VRC-92E exportable Single Channel Ground and Airborne Radio Systems (SINCGARS), 20 S250 Shelters, 20 High Mobility Multi-Purpose Wheeled Vehicles (HMMWVs), 1 lot AN/MPQ-64F1 SENTINEL Radar software, 290 AIM-120C-7 Surface-Launched Advanced Medium Range Air-to-Air Missiles, 6 Guidance Sections, Surface-Launched Advanced Medium Range Air-to-Air Missile (SL-AMRAAM) software to support Oman's Ground Based Air defense System, training missiles, missile components, warranties, containers, weapon support equipment, repair and return, spare and repair parts, publications and technical documentation, personnel training and training equipment, U.S. Government and contractor technical support services, and other related elements of logistics support.

(iv) Military Department: Army (UJR) Air Force (YEK)

(v) Prior Related Cases, if any: FMS case YEI-$68M-5Jun02

(vi) Sales Commission, Fee, etc., Paid, Offered, or Agreed to be Paid: None

(vii) Sensitivity of Technology Contained in the Defense Article or Defense Services Proposed to be Sold: See Annex attached.

(viii) Date Report Delivered to Congress: 18 October 2011

Policy Justification

Oman—AVENGER Fire Units/STINGER Missiles/Surface-Launched AMRAAM

The Government of the Oman has requested a possible sale of 18 AVENGER Fire Units, 266 STINGER—Reprogrammable Micro-Processor (RMP) Block 1 Anti-Aircraft missiles, 6 STINGER Block 1 Production Verification Flight Test missiles, 24 Captive Flight Trainers, 18 AN/VRC-92E exportable Single Channel Ground and Airborne Radio Systems (SINCGARS), 20 S250 Shelters, 20 High Mobility Multi-Purpose Wheeled Vehicles (HMMWVs), 1 lot AN/MPQ-64F1 SENTINEL Radar software, 290 AIM-120C-7 Surface-Launched Advanced Medium Range Air-to-Air Missiles, 6 Guidance Sections, Surface-Launched Advanced Medium Range Air-to-Air Missile (SL-AMRAAM) software to support Oman's Ground Based Air defense System, training missiles, missile components, warranties, containers, weapon support equipment, repair and return, spare and repair parts, publications and technical documentation, personnel training and training equipment, U.S. Government and contractor technical support services, and other related elements of logistics support. The estimated cost is $1.248 billion.

This proposed sale will contribute to the foreign policy and national security of the United States by helping to improve the security of a friendly country which has been, and continues to be, an important force for political stability in the Middle East.

The proposed purchase of the AVENGER fire units and SL-AMRAAM will improve Oman's capability to meet current and future regional threats. Oman is developing a layered air defense capability that incorporates a larger Foreign Military Sale-Direct Commercial Sale hybrid effort. This modern multi-layered air defense system will be integrated into the national command and control to protect strategic locations in Oman and its nearest vicinity. The system will serve as a deterrent to potential threats from regional unmanned aerial vehicles, cruise missiles, and fighter aircraft. The proposed sale will provide a significant increase in Oman's defensive capability while enhancing interoperability with the U.S. and other coalition forces. Oman will have no difficulty absorbing this additional capability into its armed forces.

The proposed sale of this equipment and support will not alter the basic military balance in the region.

The prime contractors will be Raytheon Missile Systems of Tucson, Arizona, and Boeing of Huntsville, Alabama.

The purchaser typically requests offsets. Any offset agreements will be defined in negotiations between the purchaser and the contractor.

Implementation of this proposed sale will require multiple trips to Oman involving many U.S. Government or contractor representatives over a period of up to or over 15 years for program and technical support, equipment checkout, and training.

There will be no adverse impact on U.S. defense readiness as a result of this proposed sale.

Transmittal No. 11-38

Notice of Proposed Issuance of Letter of Offer Pursuant to Section 36(b)(1) of the Arms Export Control Act, as amended

Annex

Item No. vii

(vii) Sensitivity of Technology:

1. The AVENGER system is a lightweight, highly mobile, and transportable surface-to-air missile/gun weapon system mounted on a high mobility multi-purpose wheeled vehicle (HMMWV). It has a two-man crew and can operate in day or night, in clear or adverse weather conditions. The system incorporates an operator's position with displays, fire control electronics, and Standard Vehicle Mounted Launcher (SVML). The SVML supports and launches multiple STINGER missiles. The highest classification of the AVENGER hardware is Confidential and the data and information is Secret.

2. The Captive Flight Trainer (CFT) is a simulated weapon with general appearance, weight, and center of gravity as the tactical missile, used at the operational level to provide training to the gunner in the techniques of acquiring, tracking, and engaging targets. CFT simulates STINGER missile target acquisition functions but does not contain a warhead or motor. CFT contains operational seeker hardware and firmware and must be protected in accordance with classified hardware guidance. Secret data could be obtained from the system by reverse engineering through extensive engineering analysis and testing. Access to AVENGER firmware and hardware could allow the development of counter-measures.

3. The STINGER-RMP Block I Anti-Aircraft missile is a fire-and-forget infrared missile system that can be fired from a number of ground-to-air and rotary wing platforms. The missile homes in on the heat emitted by either jet or propeller-driven, fixed wing aircraft or helicopters. The STINGER system employs a proportional navigation system that allows it to fly an intercept course to the target. The STINGER Block I International Missile System, hardware, software and documentation contain sensitive technology and are classified Confidential. The guidance section of the missile and tracking head trainer contain highly sensitive technology and are classified Confidential. No man-portable grip stocks will be sold under these LOAs.

4. Missile System hardware and fire unit components contain sensitive critical technologies. The potential for reverse engineering is not significant for most technologies although the release of some end items could lead to development of countermeasures. STINGER critical technology is primarily in the area of design and production know-how and not end-items. This sensitive/critical technology is inherent in the hybrid microcircuit assemblies; microprocessors; magnetic and amorphous metals; purification; firmware; printed circuit boards; laser range finder; dual detector assembly; detector filters; missile software; optical coatings; ultraviolet sensors; semi-conductor detectors infrared band sensors; compounding and handling of electronic, electro-optic, and optical materials; equipment operating instructions; energetic materials formulation technology; energetic materials fabrication and loading technology; and warhead components seeker assembly. The hardware for all versions of STINGER International Platform Launched Missile is classified Confidential. Information on vulnerability to electronic countermeasures and countermeasures, system performance capabilities and effectiveness, and test data are classified up to Secret.

5. The SL-AMRAAM is a lightweight day or night, and adverse weather non-line of sight system for countering cruise missiles and unmanned air vehicle threats with engagement capabilities in excess of 18 kilometers. The system is comprised of a Fire Control System, for command and control, and missile launcher fire unit platforms, which hold AIM-120 AMRAAM missiles. The SENTINEL radar (export variant), which will be sold separately via direct commercial sale (DCS), provides surveillance and fire control data for the system.

6. The AIM-120C-7 Advanced Medium Range Air-to-Air Missile (AMRAAM) is a new generation air-to-air missile. The AIM-120C-7 AMRAAM hardware, including the missile guidance section, is classified Confidential. State-of-the-art technology is used in the missile to provide it with unique beyond-visual-range capability. Significant AIM-120C-7 features include a target detection device with embedded electronic countermeasures, an electronics unit within the guidance section that performs all radar signal processing, mid-course and terminal guidance, flight control, target detection and warhead burst point determination. Anti-tampering security measures have been incorporated into the AIM-120C-7 to prevent exploitation of the AMRAAM software.

7. The AN/MPQ-64 SENTINEL Radar System is a fielded air defense radar system that provides the capability for SENTINEL to detect and classify small radar cross-section (RCS) targets, such as cruise missiles and unmanned aerial vehicles at extended ranges. The system provides SHORAD system information dominance via a digital air picture for support of maneuver forces and critical assets. The ETRAC improvements to the SENTINEL radar also provide the capability to determine aircraft type and to support manned versus unmanned determinations to fully support precision engagements beyond visual range. The improved Secret-U.S. only SENTINEL radar includes hardware updates to the basic SENTINEL radar and Secret-U.S. only software that includes Electronic Counter-countermeasures (ECCM), High-Range Resolution (HRR), and Hostile Aircraft Identification Equipment (HAIDE) capabilities.

8. If a technologically advanced adversary were to obtain knowledge of the specific hardware and software elements, the information could be used to develop countermeasures which might reduce weapon system effectiveness or be used in the development of a system with similar or advanced capabilities.

[FR Doc. 2011-27552 Filed 10-24-11; 8:45 am]

BILLING CODE 5001-06-P